DEPARTMENT OF HEALTH AND HUMAN SERVICES

Centers for Disease Control and Prevention

Enhancing Professional Education, Research Infrastructure, and Capacity Building in Minority Serving Institutions

Announcement Type: New.

Funding Opportunity Number: AA131.

Catalog of Federal Domestic Assistance Number: 93.283.

Key Dates: Application Deadline: August 4, 2005.

I. Funding Opportunity Description

Authority: This program is authorized under Sections 317(k)(2) of the Public Health Service Act, (42 U.S.C. Section 247b(k)(2)). In addition, the program is authorized under Presidential Executive Orders 13256, 13230, and 13270 which relate to advancing opportunities for higher education and strengthening capacity of Historically Black Colleges and Universities (HBCUs), Tribal Colleges and Universities, (TCUs), and Hispanic Serving Institutions (HSIs).

Purpose: The purpose of the program announcement is to assist organizations which provide support for the advancement of professional development, education, and research and training for racial and ethnic minorities. These organizations consist of representatives from member institutions (medical, dental public health, pharmacy, and/or veterinarian schools) who work to ensure racial and ethnic parity in health professions. Specifically, the program is intended to assist these organizations to:

1. Build and strengthen institutional infrastructure supporting the development and implementation of innovative organizational strategies and effective programs to advance professional development, education, and research training for racial and ethnic minorities.

2. Improve program and institutional capacity to foster community leadership development, promote community mobilization strategies and community resource development, and encourage partnerships and coalition building.

3. Enhance quantitative and qualitative research efforts of the participating institutions.

4. Strengthen the educational and professional development of minority health professionals and educators.

5. Support student training initiatives, in order to introduce public health to racial and ethnic minority students.

This program addresses the “Healthy People 2010” focus area(s) of Educational and Community-Based Programs and Public Health Infrastructure. This program also addresses the performance of executive agency actions under Executive Orders 13256, 13230, and 13270 in order to advance the development of the Nation's full human potential and to advance equal opportunity in higher education, to strengthen the capacity of HBCUs, HSIs, and TCUs, respectively, to provide the highest quality education, and to increase opportunities for these institutions to participate in and benefit from Federal programs.

Measurable outcomes of the program will be in alignment with one (or more) of the following performance goal(s) for the Office of Minority Health:

Goal 1: Prepare disadvantaged minority medical, veterinary, pharmacy, and graduate students for careers in public health.

Goal 2: Support HBCUs, HSIs, and TCUs by increasing the number of funding mechanisms and the number of minority-serving institutions receiving support.

This announcement is only for non-research activities supported by CDC/ATSDR. If research is proposed, the application will not be reviewed. For the definition of research, please see the CDC Web site at the following Internet address: http://www.cdc.gov/od/ads/opspoll1.htm.

Activities:

1. Recipient Activities Required by all Applicants:

A. Capacity Building and Resource Development Provide technical and consultative capacity building assistance of lead organization and/or member institutions to:

1. Identify, coordinate and implement strategic planning activities to advance organizational development and change.

2. Develop, coordinate and implement faculty/student learning programs.

3. Identify appropriate additional academic partners, including community-based organizations, academic foundations, private entities and institutions to strengthen the lead organizations' and/or member institution's overall ability to carry out proposed activities.

4. Provide technical assistance, guidance, and support to strengthen the lead organization or member institutions' ability to carry out proposed activities.

5. Establish an organizational structure that includes working groups to address critical program issues.

6. Facilitate awarding of funds to constituents (sub-awardees) through a variety of mechanisms, including but not limited to CDC identified extramural project activities and/or Investigator Initiated non-research activities.

B. Student Training Opportunities, Fellowships Programs, and Internship Programs

1. Initiate internship and fellowship programs and pre and post doctoral opportunities designed to encourage minority students to choose and pursue graduate careers in public health and biomedical sciences.

2. Identify, conduct, and evaluate new opportunities for public health field experiences that will provide students with an opportunity to apply the concepts and principals of public health practice and epidemiology as it relates to their community and help to increase the participation of minority students that are under represented in the biomedical, environmental, and public health sciences.

C. Needs Assessment and Public Health Research (Prevention Research, Policy Research, Dissemination Research)

1. Identify effective strategies to address pressing public health problems affecting minority population groups. This activity will range from gathering initial information regarding the health status of communities and determining effective intervention strategies, to determining how to encourage the use of scientific findings in public health programs.

2. Initiate innovative strategies for minority research recruitment and retention by enhancing the competency and capacity of member organizations' research administration process, policy development procedures, needs assessment framework, program evaluation guidelines, and community development structures.

3. Conduct activities that promote the development and utilization of public health strategies to lead organizations and/or member institutions. The strategies should include coalition building, technical assistance workshops, language assistance planning for persons with LEP (limited English proficiency), community outreach, health communications, and cultural competency.

4. Conduct activities that will increase the capacity of participation of minority principal investigators in prevention research.

5. Identify and work to develop new opportunities for research and project collaboration among prevention health professionals.

6. Regularly explore project ideas in instruction practice, and research in prevention which respond to health promotion and disease prevention objectives as stated in “Healthy People 2010”.

D. Program Evaluation

Identify data sources, establish outcomes, and process evaluation measures for determining the overall effectiveness of the lead organization and the member institutions.

In a cooperative agreement, CDC staff is substantially involved in the program activities, above and beyond routine grant monitoring.

CDC Activities for this program are as follows:

A. Convene semi-annual meetings with the recipient to facilitate collaboration and information sharing.

B. Conduct onsite visits with the recipient and sub-awardees to provide consultation and technical support; and help recipients meet program objectives and cooperative agreement requirements.

C. Inform recipients about the laws and regulations pertaining to human subjects research and conduct inquiries concerning allegations of scientific misconduct.

D. Evaluate and monitor recipients' progress toward meeting program objectives and goals.

E. Provide technical assistance and guidance on analyzing data and evaluation of the program's progress.

F. Provide to the lead organization, guidance on collaborating with HBCU's, HSI's, and TCU's.

G. Work collaboratively with the lead organization to assist in its efforts to build research and training capacity and serve as a resource for HBCU's, HSI's, and TCU's interested in expanding biomedical opportunities, public health academic opportunities and field experience among students and faculty.

H. Provide to the lead organization, guidance and technical assistance on identifying health disparities priorities that the HBCU, HSI, and TCU member schools can investigate. This will help achieve CDC's health disparities goals and objectives.

II. Award Information

Type of Award: Cooperative Agreement. CDC involvement in this program is listed in the Activities Section above.

Fiscal Year Funds: 2005.

Approximate Total Funding: $900,000 (This amount is an estimate, and is subject to availability of funds.).

Approximate Number of Awards: Three (one from each academic group).

Approximate Average Award: $300,000 (This amount is for the first 12-month budget period, and includes both direct and indirect costs.).

Floor of Award Range: None.

Ceiling of Award Range: $300,000 (This ceiling is for the first 12-month budget period.).

Anticipated Award Date: August 31, 2005.

Budget Period Length: 12 months.

Project Period Length: Five years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by a lead organization that serves the targeted racial and ethnic minority population. Lead organizations are nonprofit educational, scientific and charitable 501(c)(3) organizations, that engage the collaborative resources, scholarship and technology of HBCUs, HSIs, including Hispanic-Serving Health Professions Schools (HSPHS); or TCUs. The applicant organizations must serve as the umbrella organizations for HBCUs, HSIs, including HSHPS; or TCUs. For the purpose of this announcement, umbrella organizations are defined as nonprofit educational, scientific, and charitable 501 (c)(3) organizations that serve as the management, administrative, and clearinghouse arm for member HBCU, HSI/HSPHS, and TCU institutions. Applications may also be submitted by eligible member institutions which are defined as minority health professions schools (HBCUs, HSIs/HSHPS or TCUs) which may include medical, dental, pharmacy and veterinary medicine schools and other minority academic institutions that are funded and supported by the lead organization to provide support for the advancement of professional development, education, and research and training for racial and ethnic minorities. Eligible member institutions must have at least a 10 percent enrollment of minority students, prevention research centers, and primary care centers that serve racial and ethnic minority populations. The applicant must have existing partnerships with HBCUs, TCUs, or HSIs.

A Bona Fide Agent is an agency/organization identified by the state as eligible to submit an application under the state eligibility in lieu of a state application. If you are applying as a bona fide agent of a state or local government, you must provide a letter from the state or local government as documentation of your status. Place this documentation behind the first page of your application form.

III.2. Cost Sharing or Matching

Matching funds are not required for this program.

III.3. Other

If you request a funding amount greater than the ceiling of the award range, your application will be considered non-responsive, and will not be entered into the review process. You will be notified that your application did not meet the submission requirements.

Special Requirements:

1. Lead Organization.

a. The lead organization must have experience providing guidance and oversight to sub-award recipients (members' institutions), administrative infrastructure to manage comprehensive public health educational programs, and expertise implementing programs that strengthen the public health system by preparing public health workers.

b. The lead organization must provide administrative oversight in accordance with appropriate federal guidelines to sub-award recipients, and provide updates as well as progress reports to CDC regarding project activities and resources.

c. The lead organization must have direct fiduciary responsibility for the administration and management of the cooperative agreement program.

d. The lead organization must show proof or documentation that they have a formal partnership with at least three (3) academic institutions that have relationships with HBCUs, HSIs, and TCUs. These collaborative relationships should be described in the narrative, and evidenced by a detailed and signed memoranda of agreement among the participants.

If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission

CDC strongly encourages you to submit your application electronically by utilizing the forms and instructions posted for this announcement on http://www.Grants.gov, the official Federal agency wide E-grant Web site. Only applicants who apply online are permitted to forego paper copy submission of all application forms.

Paper Submission

Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application:

You must submit a project narrative with your application forms. The narrative must be submitted in the following format:

• Maximum number of pages: 40

If your narrative exceeds the page limit, only the first pages which are within the page limit will be reviewed.

• Font size: 12 point unreduced

• Double-spaced

• Paper size: 8.5 by 11 inches

• Page margin size: One inch

• Printed only on one side of page

• Held together only by rubber bands or metal clips; not bound in any other way.

Your narrative should address activities to be conducted over the entire project period, and must include the following items in the order listed:

1. Project Abstract

Provide a brief summary that includes: Brief overview of the lead organization (history, structure, experience and member institutions),

b. Summary of the program plan;

c. Description of the Evaluation plan;

d. Summary of the lead Organization's operational and management plan.

2. Describe Lead Organization (History and Experience)

a. Describe member schools in the organization (types and capacity).

b. Describe all appropriate partners, including community-based organizations, academic, and foundations, from which to strengthen the community's overall ability to eliminate the health disparities of the target population, and to demonstrate the changes in health disparities.

3. Program Plan

a. Describe program plans with specific, time-phased program objectives and the priorities to be addressed (include timeline and/or action plan).

b. Describe the project by identifying the purpose and problems addressing the goals and objectives, and the activities to attain these goals.

c. The plan should describe the project objectives that fit the activities in the application including expected outcomes.

d. Discuss specific goals related to program requirements, and indicate expected program outcome at the end of the five-year project period.

e. Describe goals and objectives that are specific measurable and feasible.

4. Program Evaluation

a. Describe how progress toward meeting project objectives will be monitored.

b. The evaluation plan should address measures considered critical to determine the success of the plan outlined by the applicant, and results should be used for improvement of the intended plan.

c. Describe plan to evaluate all major program activities and services supported with CDC Office of Minority Health funds.

5. Operational and Management Plan

a. Describe an operational and management plan, including coordination and collaboration efforts with other organizations and agencies involved in program activities, especially those serving the target populations.

b. Describe the proposed staffing for the project and submit job descriptions of key personnel illustrating their qualification and experience to carryout project activities.

6. Budget Plan and Budget Justification

a. Provide a detailed budget and budget justifications which indicate the anticipated costs for personnel, fringe benefits, travel, supplies, contractual, consultants, equipment, indirect, and other items.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: August 4, 2005.

Explanation of Deadlines: Applications must be received in the CDC Procurement and Grants Office by 4 p.m. Eastern Time on the deadline date.

Applications may be submitted electronically at http://www.grants.gov. Applications completed on-line through Grants.gov are considered formally submitted when the applicant organization's Authorizing Official electronically submits the application to http://www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If submittal of the application is by the United States Postal Service or commercial delivery service, the applicant must ensure that the carrier will be able to guarantee delivery by the closing date and time. If CDC receives the submission after the closing date due to: (1) carrier error, when the carrier accepted the package with a guarantee for delivery by the closing date and time, or (2) significant weather delays or natural disasters, the applicant will be given the opportunity to submit documentation of the carrier's guarantee. If the documentation verifies a carrier problem, CDC will consider the submission as having been received by the deadline.

If a hard copy application is submitted, CDC will not notify the applicant upon receipt of the submission. If questions arise on the receipt of the application, the applicant should first contact the carrier. If the applicant still has questions, contact the PGO-TIM staff at (770) 488-2700. The applicant should wait two to three days after the submission deadline before calling. This will allow time for submissions to be processed and logged.

This announcement is the definitive guide on application content, submission address, and deadline. It supersedes information provided in the application instructions. If your submission does not meet the deadline above, it will not be eligible for review, and will be discarded. You will be notified that you did not meet the submission requirements.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Reimbursement of pre-award costs is not allowed.

• Funds may not be used for construction costs.

• Funds may not be used for research.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

Application Submission Address:

Electronic Submission

CDC strongly encourages applicants to submit applications electronically at http://www.Grants.gov. The application package can be downloaded from http://www.Grants.gov. Applicants are able to complete it off-line, and then upload and submit the application via the Grants.gov Web site. E-mail submissions will not be accepted. If the applicant has technical difficulties in Grants.gov, costumer service can be reached by e-mail at http://www.grants.gov/CustomerSupport or by phone at 1-800-518-4726 (1-800-518-GRANTS). The Customer Support Center is open from 7 a.m. to 9 p.m. eastern time, Monday through Friday.

CDC recommends that submittal of the application to Grants.gov should be early to resolve any unanticipated difficulties prior to the deadline. Applicants may also submit a back-up paper submission of the application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

OR

Paper Submission

Applicants should submit the original and two hard copies of the application by mail or express delivery service to: Technical Information Management—RFA AA131, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

Evaluation Criteria (100 Points)

Each application will be evaluated individually against the following criteria, by an independent review group:

1. Program Plan (40 Points)

a. The extent to which the proposed goals and objectives are specific, measurable, time-phased, consistent with the program purpose and the proposed activities, and consistent with the applicant organization's overall mission.

b. The extent to which the applicant has included objectives and a timeline, which are feasible to be accomplished during the budget period, and which address all activities necessary to accomplish the purpose of the proposal.

2. Description of Lead Organization (History and Experience) (25 Points)

a. Extent to which the applicant documents it's experience and successes in operating and centrally administering a coordinated public health or related program serving the target population for at least two years for the selected priority area(s) (including appended letters of support).

b. Extent of experience in other public health programs, and public health research or related data collection.

3. Evaluation Plan (25 Points)

a. Extent to which the applicant presents a reasonable and thorough evaluation plan.

b. Appropriateness of the evaluation methods, goals, objectives, and time lines prepared for the development of the overall planning effort; and identification of data and information sources needed to track progress toward the project's objectives.

4. Operational and Management Plan (10 Points)

The extent to which applicant describes the history, nature, and extent of its relevant experience within the last two years with supporting documentation.

5. Project Abstract

a. The extent to which the applicant clearly defines the targeted population group, geographic community, and priority area(s) to be addressed.

b. The extent to which the applicant uses data, if such data are available and other supporting evidence to document the disparities within the targeted population, and the appropriateness of the target population sizes for the priority area selected.

c. The degree of the disparity between the targeted population and the non-Hispanic white population based on local, State, and National data which directly supports the basis for the health disparity in the priority area(s) selected.

6. Budget (Not Scored)

Extent to which a line-item budget is presented, justified, and is consistent with the purposes and objectives of the cooperative agreement.

V.2. Review and Selection Process

Applications will be reviewed for completeness by the Procurement and Grants Office (PGO) staff, and for responsiveness by the Office of Minority Health (OMH). Incomplete applications and applications that are non-responsive to the eligibility criteria will not advance through the review process. Applicants will be notified that their application did not meet submission requirements.

An objective review panel will evaluate complete and responsive applications according to the criteria listed in the “V.1. Criteria” section above. The objective review process will follow the policy requirements as stated in the GPD 2.04 [http://198.102.218.46/doc/gpd204.doc]. The application review will be performed by CDC employees within the agency's CIOs. In addition, the following factors may affect the funding decision:

(a) Funding preference will be given to organizations that have a recent history of collaborating with the CDC on public health student training programs.

(b) Preference will be given to institutions with at least a five-year track record of implementing public health internship and fellowship programs for minority students.

(c) Funding preference will be given to institutions that have appropriate staff expertise and other sources of support for implementing public health internship and/or fellowship programs.

(d) At least one organization will be funded from each academic group (i.e., HBCU, HSI/HSHPS, TCU).

CDC will provide justification for any decision to fund out of rank order.

V.3. Anticipated Announcement and Award Dates

Anticipated Award Date: August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR Part 74 and Part 92 as Appropriate. For more information on the Code of Federal Regulations, see the National Archives and Records Administration at the following Internet address: http://www.access.gpo.gov/nara/cfr/cfr-table-search.html.

An additional Certifications form from the PHS5161-1 application needs to be included in your Grants.gov electronic submission only. Refer to http://www.cdc.gov/od/pgo/funding/PHS5161-1 Certificates.pdf. Once the form is filled out attach it to your Grants.gov submission as Other Attachments Form.

The following additional requirements apply to this project:

• AR-7 Executive Order 12372

• AR-10 Smoke-Free Workplace Requirements

• AR-11 Healthy People 2010

• AR-12 Lobbying Restrictions

• AR-15 Proof of Non-Profit Status

• AR-16 Security Clearance Requirement

• AR-21 Small, Minority, and Women-Owned Business

Additional information on these requirements can be found on the CDC web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 90 days after the end of the budget period.

3. Financial status report due no more than 90 days after the end of the budget period.

4. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341. Telephone: 770-488-2700.

For program technical assistance, contact: Yvonne Lewis, HBCU Project Officer, Centers for Disease Control and Prevention, 1600 Clifton Road MS E67, Atlanta, GA 30333. Telephone: 404-498-2320. E-mail: YLewis@cdc.gov.

Mike Snesrud, TCU Project Officer, Centers for Disease Control and Prevention, 1600 Clifton Road MS E67, Atlanta, GA 30333. Telephone: 404-498-2320. E-mail: PSnesrud@cdc.gov.

Ana Rivera, HSI Project Officer, Centers for Disease Control and Prevention, 1600 Clifton Road MS E67, Atlanta, GA 30333. Telephone: 404-498-2320. E-mail: ARivera@cdc.gov.

For financial, grants management, or budget assistance, contact: Mattie B. Jackson, Grants Management Specialist, CDC Procurement and Grants Office, 2920 Brandywine Road MS K14, Atlanta, GA 30341. Telephone: 770-488-2696. E-mail: mij3@cdc.gov.

Dated: June 27, 2005.
Alan A. Kotch,
Acting Deputy Director, Procurement and Grants Office, Centers for Disease Control and Prevention.

[FR Doc. 05-13133 Filed 7-1-05; 8:45 am]

BILLING CODE 4163-18-P